DEPARTMENT OF HOMELAND SECURITY

Federal Emergency Management Agency

[Docket ID FEMA-2008-0022]

Criteria for Preparation and Evaluation of Radiological Emergency Response Plans and Preparedness in Support of Nuclear Power Plants; NUREG-0654/FEMA-REP-1/Rev. 1 Supplement 4 and FEMA Radiological Emergency Preparedness Program Manual

AGENCY: Federal Emergency Management Agency, DHS.

ACTION: Extension of comment period.

SUMMARY: The Federal Emergency Management Agency (FEMA) is extending the comment period for two documents: The proposed Supplement 4 (Supplement 4) to “Criteria for Preparation and Evaluation of Radiological Emergency Response Plans and Preparedness in Support of Nuclear Power Plants,” NUREG-0654/FEMA-REP-1/Rev. 1 (NUREG-0654), and the proposed Radiological Emergency Preparedness Program Manual (the REPP Manual). The original comment period was scheduled to conclude on August 3, 2009. FEMA is extending the period until October 19, 2009.

DATES: This notice is effective June 3, 2009. Comments must be received by October 19, 2009.

ADDRESSES: The proposed Supplement 4 and the proposed REPP Manual are available online at http://www.regulations.gov. You may also view hard copies of these documents at the Office of Chief Counsel, Federal Emergency Management Agency, Room 835, 500 C Street, SW., Washington, DC 20472. You may submit comments on the proposed Supplement 4 and the proposed REPP Manual, identified by Docket ID FEMA-2008-0022, by one of the following methods:

Federal eRulemaking Portal: http://www.regulations.gov. Follow the instructions for submitting comments.

E-mail: FEMA-POLICY@dhs.gov. Include “Docket ID FEMA-2008-0022” in the subject line of the message.

Fax: 703-483-2999.

Mail/Hand Delivery/Courier: Regulation & Policy Team, Office of Chief Counsel, Federal Emergency Management Agency, Room 835, 500 C Street, SW., Washington, DC 20472.

Instructions: All submissions received must include the agency name and Docket ID. Also, because FEMA is collecting comments on two documents in this docket, please also identify the document to which your comment applies. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov, and search for Docket ID “FEMA-2008-0022.” Submitted comments may also be inspected at FEMA, Office of Chief Counsel, Room 835, 500 C Street, SW., Washington, DC 20472.

FOR FURTHER INFORMATION CONTACT: Craig Fiore, Deputy Chief, Radiological Emergency Preparedness Branch, Technological Hazards Division, National Preparedness Directorate, craig.fiore@dhs.gov, (703) 605-4218.

SUPPLEMENTARY INFORMATION: The Federal Emergency Management Agency (FEMA) is extending the comment period for two documents: the proposed Supplement 4 (Supplement 4) to “Criteria for Preparation and Evaluation of Radiological Emergency Response Plans and Preparedness in Support of Nuclear Power Plants,” NUREG-0654/FEMA-REP-1/Rev. 1 (NUREG-0654), and the proposed Radiological Emergency Preparedness Program Manual (the REPP Manual).

NUREG-0654 is a joint document issued by the Nuclear Regulatory Commission (NRC) and FEMA that contains the Evaluation Criteria against which FEMA and the NRC measure the emergency preparedness plans of Nuclear Power Plant owners and operators and the State, local, and Tribal jurisdictions in which they sit. The REPP Manual provides additional implementation guidance for State, local, and Tribal jurisdictions.

Supplement 4 revises and provides additional offsite requirements for emergency preparedness programs at the Nation's nuclear power plants, as well as requirements for backup means for alert and notification, and coordination between licensees and offsite responders. The REPP Manual consolidates all of the FEMA Radiological Emergency Preparedness Program's many operative guidance and policy documents into one location, and provides additional guidance on the proposed changes in Supplement 4.

FEMA published a notice of availability for these two documents on May 18, 2009, at 74 FR 23198. The original comment period was scheduled to conclude on August 3, 2009. In response to public comments, FEMA and the NRC have jointly determined to extend the comment period until October 19, 2009. Since the May 18 publication of the notice of availability, FEMA has received several comments requesting that the period be extended beyond the original 75 day period. These requests have suggested a range of more appropriate comment periods, lasting from 150 to 180 days. Various organizations cited the voluminous material put forth by the agencies for comment. Because the proposed regulatory amendments and guidance documents cover many significant legal, regulatory and policy matters that may require a time consuming review by licensees and their offsite counterparts, FEMA and the NRC have determined that it is in the interest of all parties to extend the comment period.

Authorities: FEMA proposes to issue the new REPP Manual, and FEMA and the NRC propose to issue Supplement 4 to NUREG-0654 under the authority of: Reorganization Plan No. 3 of 1978; Presidential Directive of Dec. 7, 1979; Executive Order 12148 “Federal Emergency Management”; section 201 of the Disaster Relief Act of 1974, 42 U.S.C. 5131, as amended by the Robert T. Stafford Disaster Relief and Emergency Assistance Act, as amended (Pub. L. 93-288); Homeland Security Act of 2002, 6 U.S.C. 101 et seq., as amended by the Post Katrina Emergency Management Reform Act (Pub. L. 109-295); NRC Authorization Acts of 1980 (Pub. L. 96-295) and 1982-1983 (Pub. L. 97-415); Atomic Energy Act of 1954, as amended, 42 U.S.C. 2011 et seq.; Energy Reorganization Act of 1974, 42 U.S.C. 5801 et seq.; Energy Policy Act of 2005, 42 U.S.C. 15801 note; Homeland Security Presidential Directive 5: Management of Domestic Incidents; and Homeland Security Presidential Directive 8: National Preparedness; 10 CFR part 50; 10 CFR part 50, Appendix E; 44 CFR part 350.

Dated: June 4, 2009.
W. Craig Fugate,
Administrator.

[FR Doc. E9-13609 Filed 6-9-09; 8:45 am]

BILLING CODE 9110-21-P